DEPARTMENT OF COMMERCE

Technology Administration

[Docket No. 000721216-0216-01]

Announcement of the Establishment of a Joint Public-Sector Private-Sector Technology Demonstration Center

AGENCY: Technology Administration, Commerce.

ACTION: Notice of establishment of a Technology Demonstration Center.

SUMMARY: The United States Department of Commerce Technology Administration announces the establishment of a joint public-sector private-sector Technology Demonstration Center. The purpose of the Center will be to demonstrate state-of-the-art and future technological advances in a variety of technologies and to encourage future development. Demonstrations will consist of joint presentations by the United States Department of Commerce Technology Administration and private sector parties. The Center is a joint activity, conducted under the auspices of Cooperative Research and Development Agreements. This is not a grant program.

DATES: The Technology Demonstration Center is immediately available for interested parties.

ADDRESSES: Parties interested in participating in the Technology Demonstration Center should send inquiries to, Technology Demonstration, United States Department of Commerce, Technology Administration, Attn: Ms. Jacki Pickett, Washington DC, 20232.

FOR FURTHER INFORMATION CONTACT: Ms. Jacki Pickett, Technology Administration, (202) 482-1039.

SUPPLEMENTARY INFORMATION: Under the authorities granted by Title 15 United States Code sections 3704 and 3710a, the Under Secretary for Technology is establishing a Technology Demonstration Center in cooperation with one or more private sector entities.

The purpose of the Center will be to demonstrate state-of-the-art and future technological advances in a variety of technologies and to encourage future development. The demonstrations will consist of joint presentations by the United States Department of Commerce Technology Administration and private sector parties.

The Center will be established under the auspices of Cooperative Research and Development Agreements between the Technology Administration and one or more private sector parties. The Center will be for demonstration purposes only and will comply with applicable Federal regulations and Departmental requirements. The Center will not be used for sales of merchandise, solicitations, orders or for the advertisement of specific products or services. The Center will be physically located at the United States Department of Commerce's Herbert C. Hoover Building, in Washington D.C.

Dated: July 28, 2000.
Cheryl L. Shavers,
Undersecretary of Commerce for Technology.

[FR Doc. 00-19805 Filed 8-3-00; 8:45 am]

BILLING CODE 3510-13-P